DEPARTMENT OF THE INTERIOR

Bureau of Land Management

[LLWYD03000 16XL13100000.DM0000]

Notice of Availability of the Final Environmental Impact Statement for the Continental Divide-Creston Natural Gas Development Project, Wyoming

AGENCY: Bureau of Land Management, Interior.

ACTION: Notice of availability.

SUMMARY: In accordance with the National Environmental Policy Act of 1969 (NEPA), as amended, and the Federal Land Policy and Management Act of 1976, as amended, the Bureau of Land Management (BLM) Rawlins Field Office has prepared a final environmental impact statement (EIS) for the proposed Continental Divide-Creston Natural Gas Development Project (CD-C) in Rawlins, Wyoming, and by this notice announces its availability.

DATES: The BLM will not issue a final decision on the proposal for a minimum of 30 days of the date that the Environmental Protection Agency (EPA) publishes this notice in the Federal Register.

ADDRESSES: The CD-C Final EIS is available for public review at the BLM Rawlins Field Office, 1300 North Third Street, Rawlins, Wyoming; the BLM High Desert District Office, 280 Highway 191 North, Rock Springs, Wyoming; and the BLM Wyoming State Office, 5353 Yellowstone Road, Cheyenne, Wyoming. The Final EIS may also be reviewed online at www.blm.gov/wy/st/en/info/NEPA/documents/rfo/cd_creston.html.

FOR FURTHER INFORMATION CONTACT: Jennifer Fleuret, Project Manager, at (307) 328-4314; 1300 North Third Street, Rawlins, WY 82301; or jfleuret@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: BP America Production Company (BP) and 20 other companies propose to expand development of natural gas resources and condensate (oil) within the existing Continental Divide/Wamsutter II and Creston Blue Gap natural gas fields. More than 4,700 wells have been drilled in the project area since the 1950s under previous authorizations. Existing surface disturbance from natural gas and oil development in the project area is approximately 49,218 acres, including nearly 8,500 acres of long-term disturbance.

The CD-C project would drill and develop up to 8,950 additional natural gas wells (some of which would also produce condensate (oil)), including 100 to 500 coalbed methane wells, using a combination of vertical and directional drilling techniques over an estimated 15-year period. The total estimated life of the project is 30 to 40 years and includes approximately 47,200 additional acres of disturbance. Planned facilities would include well pads, gas, condensate and water collection pipelines, compressor stations, water disposal systems, an access road network, and an electrical distribution system. All surface facilities would be removed when the project is completed and the land would be re-contoured to near pre-disturbance condition and re-vegetated with native plant communities.

The project is located in the following area:

Sixth Principal Meridian

T. 14 N., R. 91 W.,

Secs. 6, 7, secs. 17 to 20, inclusive, and secs. 29 to 32, inclusive.

T. 18 N., R. 91 W.,

Secs. 3 to 10, inclusive, secs. 15 to 21, inclusive, and secs. 28 to 32, inclusive.

T. 19 N., R. 91 W.,

Secs. 1 to 23, inclusive, and secs. 26 to 34, inclusive.

T. 20 N., R. 91 W.,

Secs. 6, 7, 18, 19, 30, and 31.

T. 21 N., R. 91 W.,

Secs. 4 to 9, inclusive, secs. 16 to 21, inclusive, and secs. 28 to 33, inclusive.

T. 22 N., R. 91 W.,

Secs. 4 to 9, inclusive, secs. 16 to 21, inclusive, and secs. 28 to 33, inclusive.

T. 23 N., R. 91 W.,

Secs. 4 to 9, inclusive, secs. 16 to 21, inclusive, and secs. 28 to 33, inclusive.

T. 14 N., R. 92 W.,

T. 15 N., R. 92 W.,

Secs. 3 to 10, inclusive, secs. 14 to 23, inclusive, and secs. 25 to 36, inclusive.

T. 16 N., R. 92 W.,

Secs. 4 to 8, inclusive, secs. 18, 19, and secs. 29 to 33, inclusive.

T. 17 N., R. 92 W.,

Secs. 1 to 23, inclusive, and secs. 27 to 34, inclusive.

Tps. 18 to 23 N., R. 92 W.

T. 14 N., R. 93 W.,

Secs. 1, 2, secs. 11 to 14, inclusive, secs. 23 to 26, inclusive, secs. 35 and 36.

T. 15 N., R. 93 W.,

Secs. 1, 2, 3, secs. 10 to 15, inclusive, secs. 22 to 27, inclusive, secs. 34, 35, and 36.

Tps. 16 to 23 N., R. 93 W.

T. 16 N., R. 94 W.,

Secs. 1 to 14, inclusive, secs. 23 to 26, inclusive, secs. 35 and 36.

Tps. 17 to 23 N., R. 94 W.

T. 16 N., R 95. W.,

Secs. 1, 2, and 3.

Sec. 4, E½.

Secs. 10, 11, and 12.

T. 17 N., R. 95 W.,

Secs. 1 to 15, inclusive, secs. 22 to 27, inclusive, secs. 34, 35, and 36.

Tps. 18 to 24 N., R. 95 W.

Tps. 18 to 24 N., R. 96 W.

T. 19 N., R. 97 W.,

Secs. 1 to 4, inclusive, and secs. 9 to 16, inclusive; those portions of secs. 17, 19, and 20 lying south of the right-of-way granted to the Union Pacific Railroad Company by the United States, serial number WYE-05871;

Secs. 21 to 36, inclusive.

T. 20 N., R. 97 W.,

Secs. 1 to 4, inclusive, secs. 9 to 16, inclusive, secs. 21 to 28, inclusive, and secs. 33 to 36, inclusive.

T. 22 N., R. 97 W.,

Secs. 1, 2, 3, and secs. 10 to 15, inclusive.

T. 23 N., R. 97 W.,

Secs. 1 to 4, inclusive, secs. 9 to 16, inclusive, secs. 21 to 28 inclusive, and secs. 33 to 36, inclusive.

T. 24 N., R. 97 W.,

Sec. 8, SE¼;

Sec. 9, S½;

Sec. 10, S½;

Sec. 11, S½;

Sec. 12, S½;

Secs. 13 to 16, inclusive;

Sec. 17, E½;

Sec. 20, E½;

Secs. 21 to 28, inclusive;

Sec. 29, E½;

Secs. 33 to 36, inclusive.

T. 19 N., R. 98 W.,

Those portions of secs. 23 and 24 lying south of the right-of-way granted to the Union Pacific Railroad Company by the United States, serial number WYE-05871;

Sec. 25;

Those portions of secs. 26 to 31, inclusive, lying south of the right-of-way granted to the Union Pacific Railroad Company by the United States, serial number WYE-05871;

Secs. 32 to 36, inclusive.

The CD-C project area includes about 1.1 million acres, or 1,672 square miles, in Carbon and Sweetwater counties, Wyoming. Approximately 626,932 acres (58.6 percent) are administered by the BLM Rawlins Field Office, approximately 48,684 acres (4.5 percent) are State of Wyoming owned and approximately 394,470 acres (36.9 percent) are privately-owned. The project area is bisected by Interstate 80 and extends from 25 miles west of Rawlins, Wyoming, to 50 miles east of Rock Springs, Wyoming.

Cooperating agencies for this EIS include the State of Wyoming, with active participation from many state agencies including the State Planning Office, Wyoming Game and Fish Department, State Historic Preservation Office, the Wyoming Department of Environmental Quality and the Wyoming Department of Agriculture. Regional cooperating agencies include Sweetwater and Carbon counties and the Little Snake River and Sweetwater County conservation districts.

The Notice of Intent to prepare the EIS was published on September 8, 2005 (70 FR 53381), and again on March 3, 2006 (71 FR 10989). Public scoping meetings were held in Rawlins, Wyoming, on October 13, 2005, and on April 6, 2006. Fifty comment letters, faxes and emails were received during the extended scoping period. Key issues identified during scoping include:

• Air quality: Potential project and cumulative impacts on air quality, including air quality-related values.

• Cultural resources: The impact on the historical trails and historical travel routes in the project area.

• Hydrology: Potential degradation of surface and/or groundwater quality by project construction and drilling activities.

• Land ownership: The majority of the project area is in the checkerboard pattern of mixed public and private land ownership, complicating landscape scale mitigation on public lands where adjacent sections are nonpublic lands not subject to BLM regulations and requirements.

• Non-native, invasive plant species: The effect of current and projected infestations of non-native, invasive species.

• Rangeland management: Loss of livestock forage and the impact of project-associated hazardous conditions to area livestock operators.

• Special-status species: The impact from project activities upon threatened and endangered and sensitive wildlife species.

• Socioeconomics: The impact of the project on traditional socioeconomic indicators.

• Surface disturbance/reclamation: The extent of existing and proposed surface disturbance and its effect on all resources in the project area; and

• Wildlife habitat: The project's potential to further fragment wildlife habitats and diminish the value of those habitats for many species.

In response, the BLM developed five alternatives to the Proposed Action, which were analyzed in the Draft EIS:

• Alternative A, 100-Percent Vertical Drilling—This alternative assumes that all natural gas wells would be drilled from single-well pads, and that no directional drilling would occur;

• Alternative B, Enhanced Resource Protection—This alternative identifies those resources that may be most at risk from mineral development, defines areas within the CD-C project area where those resource risks are likely to occur, and describes the enhanced protection and mitigations that could diminish those risks;

• Alternative C, Surface Disturbance Cap, Core and Non-Core Areas—This alternative places a cap on unreclaimed surface disturbance caused by mineral development, a 60-acre cap in areas that have seen the greatest mineral development to date and a 30-acre cap in the rest of the project area. The cap is expressed in terms of acres per 640-acre section;

• Alternative D, Directional Drilling—This alternative requires that all future natural gas wells on Federal mineral estate be drilled from multi-well pads, one new multi-well pad per section; and

• Alternative E, No Action—NEPA regulations require that the EIS alternatives analysis “include the alternative of no action” (40 CFR 1502.14(d)). For the analysis in the Draft EIS, this means that the development activities on Federal lands proposed by the CD-C operators would not be approved or authorized. Lease rights on Federal lands or mineral estate granted by the BLM would remain in effect and other, additional or supplemental proposals to develop leased resources, such as oil and/or gas, could be received and would be considered by the BLM as appropriate.

The Draft EIS Notice of Availability was published on December 7, 2012 (77 FR 73049), opening a 90-day public comment period. A public meeting was held on January 15, 2013, and the public comment period closed on March 7, 2013. Over 8,000 individual comment letters were received and identified issues such as the lack of a preferred alternative and concerns associated with each of the alternatives, including feasibility, sufficiency of the analysis and impacts to specific resources as a result of each alternative. Comments were considered and incorporated as appropriate into the Final EIS; however, the analysis of the alternatives and the identified impacts did not significantly change.

The Final EIS differs from the Draft EIS by:

• Dropping Alternative A, 100-Percent Vertical Drilling, from consideration due to public comments on feasibility and the magnitude of total disturbance;

• Amending Alternative D, 100-Percent Directional Drilling, to recognize the impact the restrictions in that alternative would have on well density; as a result, this alternative now analyzes a 20-percent decrease in total wells drilled;

• Redefining the No Action Alternative to include an analysis of impacts associated with development on state and private mineral estate in addition to potential development on Federal mineral estate; and

• Including Alternative F, Agency-Preferred Alternative—This alternative responds to Draft EIS scoping concerns and comments by limiting development to eight wellpads per square mile section, requiring that wellpads be placed in the most environmentally suited areas, and creating a CD-C consultation and coordination group to response to evolving energy issues and concerns relating to the project. This alternative is a reconfiguration of elements of alternatives that were analyzed in the Draft EIS. The CD-C consultation and coordination group and protection measures of Alternative F were originally analyzed in the DEIS under Alternative B; and the emphasis on directional drilling was analyzed in Alternative D.

The Final EIS includes potential landscape scale mitigation strategies. Consistent with Secretarial Order No. 3330 and the BLM's obligations under the Federal Land Policy and Management Act, BLM Wyoming drafted a landscape-scale mitigation appendix, Appendix S, for inclusion in the Final EIS. The appendix has been reviewed by the Washington Office and the cooperating agencies.

Upon conclusion of the 30-day public availability period following the date the EPA publishes the NOA in the Federal Register, the BLM will prepare and sign the record of decision (ROD) to announce its final decision on the Continental Divide-Creston Natural Gas Development Project. Availability of the ROD will be announced to the local media and the project mailing list, and the ROD itself will be posted on the project Web page.

Authority: 40 CFR 1506.6, 40 CFR 1506.10.

Mary Jo Rugwell,
Acting BLM Wyoming State Director.

[FR Doc. 2016-09010 Filed 4-15-16; 8:45 am]

BILLING CODE 4310-22-P